DEPARTMENT OF HOMELAND SECURITY

Coast Guard

33 CFR Part 110

[Docket No. USCG-2012-0967]

RIN 1625-AA01

Anchorage Regulations: Pacific Ocean at San Nicolas Island, Calif.; Restricted Anchorage Areas

AGENCY: Coast Guard, DHS.

ACTION: Direct final rule; confirmation of effective date.

SUMMARY: The U.S. Coast Guard is confirming the changes made to the restricted anchorage areas of San Nicolas Island, California. A direct final rule detailing the changes was published in the Federal Register on November 12, 2013, (78 FR 67300). We received no adverse comments in response to the direct final rule, therefore, the rule will go into effect as scheduled.

DATES: The effective date of the direct final rule published on November 12, 2013, is confirmed as February 10, 2014.

FOR FURTHER INFORMATION CONTACT: If you have questions on this notice, call or email Lieutenant Junior Grade Blake Morris, Waterways Management Branch, U.S. Coast Guard; telephone (510) 437-3801, email Blake.J.Morris@uscg.mil.

SUPPLEMENTARY INFORMATION: On November 12, 2013, we published a direct final rule and request for comment entitled, “Anchorage Regulations: Pacific Ocean at San Nicolas Island, Calif.; Restricted Anchorage Areas” in the Federal Register (78 FR 67300). That rule announced our intent to amend the restricted anchorage areas of San Nicolas Island, California, by removing the west area anchorage restriction and decreasing the size of the east area anchorage restriction.

In the direct final rule we notified the public of our intent to make the rule effective on February 10, 2014, unless an adverse comment, or notice of intent to submit an adverse comment, was received on or before January 13, 2014. We did not receive any adverse comments or notices of intent to submit an adverse comment on the rule. Therefore, under 33 CFR 1.05-55(d), we now confirm that the amendments to the restricted anchorage areas of San Nicolas Island, California, will become effective, as scheduled, on February 10, 2014.

Dated: January 16, 2014.
K.L. Schultz,
Rear Admiral, U.S. Coast Guard, Commander, Eleventh Coast Guard District.

[FR Doc. 2014-02214 Filed 2-5-14; 8:45 am]

BILLING CODE 9110-04-P